SECURITIES AND EXCHANGE COMMISSION

Sunshine Act Meetings

TIME AND DATE: Notice is hereby given, pursuant to the provisions of the Government in the Sunshine Act, Public Law 94-409, that a public roundtable will be held in Baltimore, MD on Thursday, September 20, 2018 from 6:00-7:30 p.m. (ET).

PLACE: The roundtable will be held at the Reginald F. Lewis Museum of Maryland African American History & Culture, 830 E Pratt Street, Baltimore, MD 21202.

STATUS: The roundtable will be open to the public. Seating for public observers will be on a first-come, first-served basis. Doors will open at 5:30 p.m. and the event will begin at 6:00 p.m. Visitors will be subject to security checks. A transcript of the roundtable will be made available in the comment file for the Commission's proposed rulemaking package regarding the standards of conduct for investment professionals.

MATTERS TO BE CONSIDERED: On April 18, 2018, the Commission voted to propose a package of rulemakings and interpretations designed to enhance the quality and transparency of investors' relationships with investment advisers and broker-dealers while preserving access to a variety of types of advice relationships and investment products. On April 24, 2018, Chairman Jay Clayton issued a statement announcing that he had asked SEC staff to put together a series of roundtables focused on the retail investor to be held in different cities across the country. The roundtables are intended to gather information directly from those investors most affected by the Commission's rulemaking.

The Baltimore roundtable is open to the public. This Sunshine Act notice is being issued because a quorum of the Commission may attend the roundtable.

The agenda for the meeting includes a discussion with Chairman Clayton, Commissioners Kara Stein, Robert Jackson and Elad Roisman, and senior SEC staff regarding the Commission's proposed Regulation Best Interest and the proposed restriction on the use of certain names or titles; a discussion regarding the Commission's proposed Form CRS Relationship Summary, including effective disclosure and design.

CONTACT PERSON FOR MORE INFORMATION: For further information, please contact Brent J. Fields from the Office of the Secretary at (202) 551-5400.

Dated: September 12, 2018.
Brent J. Fields,
Secretary.

[FR Doc. 2018-20179 Filed 9-12-18; 4:15 pm]

BILLING CODE 8011-01-P